DEPARTMENT OF TRANSPORTATION

Federal Aviation Administration

Notice of Availability of the Record of Decision for the Proposed Airport, Angoon, Alaska

AGENCY: Federal Aviation Administration (FAA), DOT.

ACTION: Notice of Availability (NOA), Record of Decision (ROD).

SUMMARY: In accordance with the National Environmental Policy Act of 1969 (NEPA; 42 U.S.C. 4321 et seq.) and Council on Environmental Quality (CEQ) regulations, the FAA issues this notice to advise the public that the FAA has issued the Record of Decision (ROD) for the Final Environmental Impact Statement (FEIS) that evaluated the effects of a proposed airport in Angoon Alaska. The ROD constitutes the final decision of the FAA and summarizes the FEIS analyses and selected mitigation measures.

SUPPLEMENTARY INFORMATION: In the ROD, the FAA selected the following alternative for implementation:

Airport 12a with Access 12a which involves the construction of a land-based airport consisting of a paved, 3,300-foot-long and 75-foot-wide runway and associated access road. The project will be located on lands owned or managed by private landowners; Kootznoowoo, Inc.; and the City of Angoon.

The FAA has included determinations on the project based upon evidence set forth in the FEIS, public input, and the supporting administrative record.

ADDRESSES: Copies of the ROD are available at the following locations. Paper copies may be viewed during regular business hours.

1. Online at www.angoonairporteis.com

2. Online at http://www.faa.gov/airports/environmental/records_decision/ under FAA Region: Alaskan

3. Juneau Public Library

• Downtown Branch, 292 Marine Way, Juneau, AK 99801

• Douglas Branch, 1016 3rd Street, Douglas, AK 99824

• Mendenhall Mall Branch, 9109 Mendenhall Mall Road, Juneau, AK 99801

4. U.S. Forest Service, Admiralty Island National Monument Office, 8510 Mendenhall Loop Road, Juneau, AK 99801

5. Angoon Community Association Building, 315 Heendae Road, Angoon, AK 99820

6. Angoon City Government Office, 700 Aan Deina Aat Street, Angoon, AK 99820

7. Angoon Senior Center, 812 Xootz Road, Angoon, AK 99820

8. The FAA Airports Division in Anchorage, AK. Please contact Leslie Grey at (907) 271-5453 to schedule.

FOR FURTHER INFORMATION CONTACT: Leslie Grey, AAL-611, Federal Aviation Administration, Alaskan Region, Airports Division, 222 W. 7th Avenue Box #14, Anchorage, AK 99513. Ms. Grey may be contacted during business hours at (907) 271-5453 (telephone) and (907) 271-2851 (fax), or by email at Leslie.Grey@faa.gov.

Issued in Anchorage, Alaska, on October 21, 2016.
Kristi A. Warden,
Deputy Division Manager, Airports Division, AAL-600.

[FR Doc. 2016-26090 Filed 10-27-16; 8:45 am]

BILLING CODE 4910-13-P